DEPARTMENT OF THE TREASURY

Office of the Comptroller of the Currency

12 CFR Part 25

[Docket ID OCC-2022-0002]

RIN 1557-AF15

FEDERAL RESERVE SYSTEM

12 CFR Part 228

[Regulation BB; Docket No. R-1769]

RIN 7100-AG29

FEDERAL DEPOSIT INSURANCE CORPORATION

12 CFR Part 345

RIN 3064-AF81

Community Reinvestment Act

Correction

In proposed rule document 2022-10111 appearing on pages 33884-34066 in the issue of June 3, 2022, make the following correction:

On page 33976, in the second column, the duplicate formulas are corrected to read as set forth below:

[FR Doc. C1-2022-10111 Filed 7-1-22; 8:45 am]

BILLING CODE 0099-10-D